DEPARTMENT OF TRANSPORTATION

Pipeline and Hazardous Materials Safety Administration

[Docket No. {PHMSA-05-21314; Notice 1]

Pipeline Safety: Petition for Waiver; BOC Gases

AGENCY: Office of Pipeline Safety (OPS), Pipeline and Hazardous Materials Safety Administration (PHMSA), U.S. Department of Transportation (DOT).

ACTION: Notice; petition for waiver.

SUMMARY: BOC Gases (BOC) petitioned the PHMSA's Office of Pipeline Safety (OPS) for a waiver from the pipeline safety standards at 49 CFR 195.306(c)(5) to allow the use of inert gas or carbon dioxide as the test medium for pressure testing an existing carbon dioxide pipeline.

DATES: Persons interested in submitting written comments on the waiver request described in this Notice must do so by August 15, 2005. Late filed comments will be considered so far as practicable.

ADDRESSES: You may submit written comments by mailing or delivering an original and two copies to the Dockets Facility, U.S. Department of Transportation, Room PL-401, 400 Seventh Street, SW., Washington, DC 20590-0001. The Dockets Facility is open from 9 a.m. to 5 p.m., Monday through Friday, except on Federal holidays when the facility is closed. Alternatively, you may submit written comments to the docket electronically at the following Web address: http://dms.dot.gov.

All written comments should identify the docket and notice numbers stated in the heading of this notice. Anyone who wants confirmation of mailed comments must include a self-addressed stamped postcard. To file written comments electronically, after logging on to http://dms.dot.gov, click on “Comment/Submissions.” You can also read comments and other material in the docket. General information about the Federal pipeline safety program is available at http://ops.dot.gov.

Anyone is able to search the electronic form of all comments received into any of our dockets by the name of the individual submitting the comment (or signing the comment if submitted on behalf of an association, business, labor union, etc.).

FOR FURTHER INFORMATION CONTACT: James Reynolds by phone at 202-366-2786, by fax at 202-366-4566, by mail at DOT, PHMSA Office of Pipeline Safety, 400 7th Street, SW., Washington, DC 20590, or by e-mail at james.reynolds@.dot.gov.

SUPPLEMENTARY INFORMATION: The gas pipeline safety regulation at 49 CFR 195.306(c)(5) allows an operator of a carbon dioxide pipeline to use inert gas or carbon dioxide as the test medium if the pipe involved is new pipe having a longitudinal joint factor of 1.00.

BOC Gases (BOC) is requesting the waiver to use carbon dioxide as the test medium in its carbon dioxide pipeline system. The BOC Carbon Dioxide Pipeline System is approximately 14 miles northwest of Green River, Wyoming and located in Sweetwater County; this is a remote, uninhabited area that does not lie within any city or other populated limits. The pipeline is 7 miles in length, constructed of 3.5-inch diameter, API 5L, Grade B Seamless pipe, and has a wall thickness of 0.300-inches.

BOC calculated the pipe's internal design pressure to be 4,320 pounds per square inch gauge (psig) using the formula in § 195.106 and pressure tested the pipe after construction; the minimum pressure was 3,575 psig and the pipe was tested for 2 hours. The pipeline is effectively coated and has had a sacrificial anode cathodic protection system since its construction.

In justification for this waiver request, BOC is proposing the following testing procedure:

• BOC would use liquid carbon dioxide to pressure test the entire 7 mile pipeline;

• The pipeline test pressure would be maintained at a minimum pressure of 3,575 psig or 60% of the pipeline's specified minimum yield strength (SMYS) for at least 4 hours;

• The pipeline would be tested for an additional 4 hours at a minimum pressure of 3,146 psig or 48% of SMYS;

• Throughout the duration of the test, BOC personnel would be stationed along the pipeline to observe any conditions that might indicate leakage;

• BOC personnel would be in constant communication with its personnel who will supervise and conduct the pressure test; and

• During the pressure test, whenever the test pressure exceeds 50% SMYS, BOC's building facilities would be unoccupied and its personnel will be stationed along the pipeline where it parallels the state highway.

BOC believes that granting a waiver for this pipeline does not pose a risk to the public or the environment because this pipeline is in a remote location, in excellent condition, and will be tested and operated at a low percentage of SMYS.

OPS will consider any comments received in response to this Notice, and make a final determination to grant or deny the waiver as proposed, or with modifications. If the waiver is granted, and OPS subsequently determines that the effect of the waiver is no longer consistent with pipeline safety, OPS may revoke the waiver at its sole discretion.

This Notice is OPS's only request for public comment before making its final decision in this matter.

Authority: 49 U.S.C. 60118(c) and 49 CFR 1.53.

Issued in Washington, DC on July 7, 2005.
Joy Kadnar,
Director of Engineering and Emergency Support.

[FR Doc. 05-13864 Filed 7-13-05; 8:45 am]

BILLING CODE 4910-60-P